NATIONAL AERONAUTICS AND SPACE ADMINISTRATION

[Notice (06-069)]

Government-Owned Inventions Available for Licensing

AGENCY: National Aeronautics and Space Administration.

ACTION: Notice of availability of inventions for licensing.

SUMMARY: The inventions listed below are assigned to the National Aeronautics and Space Administration, are the subject of a patent application that has been filed in the United States Patent and Trademark office, and are available for licensing.

DATES: September 26, 2006.

FOR FURTHER INFORMATION CONTACT: Mark W. Homer, Patent Counsel, NASA Management Office—JPL, 4800 Oak Grove Drive, Mail Stop 180-200, Pasadena, CA 91109; telephone (818) 354-7770.

NASA Case No. NPO-41757-1: A Readout Scheme for Squid High Resolution Thermometry;

NASA Case No. NPO-42312-1: Slow Light in Chains of Vertically Coupled Whispering Gallery Mode Resonators;

NASA Case No. NPO-42188-1: WGM Resonators for Studying Orbital Angular Momentum of a Photon, and Methods;

NASA Case No. DRC-006-002: Improved RAM Booster.

Dated: September 19, 2006.
Keith T. Sefton,
Deputy General Counsel, Administration and Management.

[FR Doc. E6-15684 Filed 9-25-06; 8:45 am]

BILLING CODE 7510-13-P